DEPARTMENT OF LABOR

Employment and Training Administration

[TA-W-41,084 and TA-W-41,084A]

Milady Bridals, Incorporated, Union City, New Jersey, and Milady Bridals, Incorporated, New York, New York; Amended Certification Regarding Eligibility To Apply for Worker Adjustment Assistance

In accordance with Section 223 of the Trade Act of 1974 (19 U.S.C. 2273) the Department of Labor issued a Certification of Eligibility to Apply for Worker Adjustment Assistance on May 24, 2002, applicable to workers of Milady Bridals, Incorporated, Union City, New Jersey. The notice was published in the Federal Register on June 11, 2002 (67 FR 40006).

At the request of the company, the Department reviewed the certification for workers of the subject firm. The workers are engaged in the production of bridal gowns and bridesmaids' dresses.

Information shows that worker separations occurred at the New York, New York location of the subject firm. The workers provide administrative support functions and accounting for the subject firm's production facility located in Union City, New Jersey.

Accordingly, the Department is amending the certification to include workers of the Milady Bridals, Incorporated, New York, New York.

The intent of the Department's certification is to include all workers of Milady Bridals, Incorporated adversely affected by increased imports.

The amended notice applicable to TA-W-41,084 is hereby issued as follows:

“All workers of Milady Bridals, Incorporated, Union City, New Jersey (TA-W-41,084) and Milady Bridals, Incorporated, New York, New York (TA-W-41,084A), who became totally or partially separated from employment on or after February 14, 2001, through May 24, 2004, are eligible to apply for adjustment assistance under Section 223 of the Trade Act of 1974.”

Signed at Washington, DC this 17th day of January 2003.
Linda G. Poole,
Certifying Officer, Division of Trade Adjustment Assistance.

[FR Doc. 03-2866 Filed 2-5-03; 8:45 am]

BILLING CODE 4510-30-P